DEPARTMENT OF LABOR

Employment and Training Administration

[TA-W-65,544]

Ruud Lighting, Inc.; Racine, WI; Notice of Termination of Investigation

Pursuant to Section 221 of the Trade Act of 1974, as amended, an investigation was initiated on March 10, 2009 in response to a worker petition filed on behalf of workers of Ruud Lighting, Inc., Racine, Wisconsin.

The petitioners have requested that the petition be withdrawn. Therefore, the investigation under this petition has been terminated.

Signed at Washington, DC, this 1st day of April, 2009.
Richard Church,
Certifying Officer, Division of Trade Adjustment Assistance.

[FR Doc. E9-10383 Filed 5-5-09; 8:45 am]

BILLING CODE 4510-FN-P